DEPARTMENT OF ENERGY

Federal Energy Regulatory Commission

Combined Notice of Filings #1

January 09, 2009.

Take notice that the Commission received the following electric rate filings:

Docket Numbers: ER00-586-007.

Applicants: Madison Gas & Electric Company.

Description: Madison Gas and Electric Company submits revisions to its Market-Based Power Sales Tariff, First Revised Volume 4, to be effective 1/6/09.

Filed Date: 01/05/2009.

Accession Number: 20090106-0242.

Comment Date: 5 p.m. Eastern Time on Monday, January 26, 2009.

Docket Numbers: ER00-3080-005.

Applicants: Otter Tail Power Company.

Description: Otter Tail Power Company submits an updated market power analysis.

Filed Date: 12/31/2008.

Accession Number: 20090105-0231.

Comment Date: 5 p.m. Eastern Time on Friday, February 27, 2009.

Docket Numbers: ER00-3767-006; ER05-841-003.

Applicants: Praxair, Inc., Praxair Plainfield Inc.

Description: Praxair, Inc. and Praxair Plainfield, Inc. submits an errata to their 12/18/08 filing of Substitute First Revised Sheet 2 et al. to FERC Electric Tariff, Second Revised Volume 1 in compliance with Order 697.

Filed Date: 01/06/2009.

Accession Number: 20090108-0112.

Comment Date: 5 p.m. Eastern Time on Tuesday, January 27, 2009.

Docket Numbers: ER01-1860-003.

Applicants: Cobb Electric Membership Corp.

Description: Cobb Electric Membership Corp submits updated Market Power Analysis pursuant to Orders 697 & 697-A.

Filed Date: 12/31/2008.

Accession Number: 20090106-0101.

Comment Date: 5 p.m. Eastern Time on Friday, February 27, 2009.

Docket Numbers: ER03-533-004; ER03-762-012.

Applicants: Alliant Energy Corporate Services, Inc., Alliant Energy Neenah, LLC.

Description: Alliant Energy Corporate Services, Inc. et al. submit updated Market Power Analysis.

Filed Date: 01/05/2009.

Accession Number: 20090108-0107.

Comment Date: 5 p.m. Eastern Time on Wednesday, March 24, 2009.

Docket Numbers: ER04-805-010.

Applicants: Wabash Valley Power Association, Inc.

Description: Wabash Valley Power Association, Inc. submits a Notice of Change in Status in compliance with reporting requirements adopted by the FERC in Order 652, Reporting Requirement for Change in Status for Public Utilities with Market-Based.

Filed Date: 12/31/2008.

Accession Number: 20090107-0146.

Comment Date: 5 p.m. Eastern Time on Wednesday, January 21, 2009.

Docket Numbers: ER08-367-001; ER06-615-035.

Applicants: California Independent System Operator Corporation.

Description: California Independent System Operator Corporation submits Fourth Revised Version of FERC Electric Tariff, 125 FERC 61,262 issued on 12/4/08.

Filed Date: 01/05/2009.

Accession Number: 20090107-0147.

Comment Date: 5 p.m. Eastern Time on Monday, January 26, 2009.

Docket Numbers: ER08-371-003.

Applicants: Cooperative Energy Incorporated.

Description: Cooperative Energy, Inc. submits its Updated Market Power Analysis pursuant to Order Nos. 697 and 697-A etc.

Filed Date: 12/31/2008.

Accession Number: 20090106-0083.

Comment Date: 5 p.m. Eastern Time on Friday, February 27, 2009.

Docket Numbers: ER09-79-001.

Applicants: Southwest Power Pool, Inc.

Description: Southwest Power Pool, Inc submits the corrected executed Meter Agent Service Agreement filed on 10/15/08 with Smoky Hills Wind Project II, LLC etc.

Filed Date: 12/31/2008.

Accession Number: 20090106-0078.

Comment Date: 5 p.m. Eastern Time on Wednesday, January 21, 2009.

Docket Numbers: ER09-84-002.

Applicants: American Electric Power Service Corporation.

Description: Ohio Power Company et al., submits Revised Interconnection Agreement between American Electric Power Service Corp and West Penn Power Co et al.

Filed Date: 01/06/2009.

Accession Number: 20090107-0319.

Comment Date: 5 p.m. Eastern Time on Tuesday, January 27, 2009.

Docket Numbers: ER09-488-000.

Applicants: American Electric Power Service Corporation.

Description: Ohio Power Company and Columbus Southern Power Company requests acceptance of a Fifteenth Revised Interconnection and Local Delivery Service Agreement with Buckeye Power, Inc etc.

Filed Date: 12/29/2008.

Accession Number: 20090106-0075.

Comment Date: 5 p.m. Eastern Time on Wednesday, January 21, 2009.

Docket Numbers: ER09-489-000.

Applicants: Southern California Edison Company.

Description: Southern California Edison Company submits a letter agreement with Granite Wind LLC.

Filed Date: 12/31/2008.

Accession Number: 20090106-0076.

Comment Date: 5 p.m. Eastern Time on Wednesday, January 21, 2009.

Docket Numbers: ER09-490-000.

Applicants: Southern California Edison Company.

Description: Southern California Edison Company submits the amended Interconnection Service and Facilities Agreement with AES Huntington Beach, LLC, Service Agreement 4 under SCE's Transmission Owner Tariff, FERC Electric Tariff, Second Revised Volume 6.

Filed Date: 12/31/2008.

Accession Number: 20090106-0077.

Comment Date: 5 p.m. Eastern Time on Wednesday, January 21, 2009.

Docket Numbers: ER09-491-000.

Applicants: New England Power Pool.

Description: New England Power Pool Participants Committee submits counterpart signature pages of the New England Power Pool Agreement, dated as of 9/1/71, as amended etc.

Filed Date: 12/31/2008.

Accession Number: 20090105-0226.

Comment Date: 5 p.m. Eastern Time on Wednesday, January 21, 2009.

Docket Numbers: ER09-492-000.

Applicants: Virginia Electric and Power Company.

Description: Virginia Electric and Power Company submit revised Service Agreement for Wholesale Distribution Service between Dominion and Industrial Power Generating Company.

Filed Date: 01/02/2009.

Accession Number: 20090105-0232.

Comment Date: 5 p.m. Eastern Time on Friday, January 23, 2009.

Docket Numbers: ER09-493-000.

Applicants: Southwest Power Pool Inc.

Description: Southwest Power Pool, Inc submits Meter Agent Services Agreement between Tenaska Power Services Co as the Market Participant and Southwestern Public Service Company as the Meter Agent.

Filed Date: 01/02/2009.

Accession Number: 20090105-0229.

Comment Date: 5 p.m. Eastern Time on Friday, January 23, 2009.

Docket Numbers: ER09-494-000.

Applicants: PJM Interconnection L.L.C.

Description: PJM Interconnection, L.L.C. submits amendments to the PJM Open Access Transmission Tariff.

Filed Date: 12/31/2008.

Accession Number: 20090105-0228.

Comment Date: 5 p.m. Eastern Time on Wednesday, January 21, 2009.

Docket Numbers: ER09-495-000.

Applicants: Southwest Power Pool, Inc.

Description: Southwest Power Pool, Inc. submits revised pages to its Open Access Transmission Tariff to implement ministerial tariff revisions to the Rate Formula template for Westar Energy, Inc.

Filed Date: 12/31/2008.

Accession Number: 20090105-0230.

Comment Date: 5 p.m. Eastern Time on Wednesday, January 21, 2009.

Docket Numbers: ER09-496-000.

Applicants: PJM Interconnection L.L.C.

Description: PJM Interconnection, L.L.C. submits an executed interconnection service agreement among PJM, North Allegheny Wind, L.L.C. et al.

Filed Date: 12/31/2008.

Accession Number: 20090105-0227.

Comment Date: 5 p.m. Eastern Time on Wednesday, January 21, 2009.

Docket Numbers: ER09-497-000.

Applicants: PJM Interconnection L.L.C.

Description: PJM Interconnection, L.L.C. submits amendments to Schedule 12 Appendix of the PJM Tariff.

Filed Date: 01/05/2009.

Accession Number: 20090107-0153.

Comment Date: 5 p.m. Eastern Time on Monday, January 26, 2009.

Docket Numbers: ER09-498-000.

Applicants: Vickers Power, L.L.C.

Description: Vickers Power, L.L.C. submits Market-Based Rate Authority and Request for Waivers.

Filed Date: 01/05/2009.

Accession Number: 20090107-0151.

Comment Date: 5 p.m. Eastern Time on Monday, January 26, 2009.

Docket Numbers: ER09-499-000.

Applicants: Midwest Independent Transmission System Operator, Inc.

Description: Midwest Independent Transmission System Operator, Inc. submits an executed Amended and Restated Large Generator Interconnection Agreement among the Midwest ISO et al.

Filed Date: 01/05/2009.

Accession Number: 20090107-0149.

Comment Date: 5 p.m. Eastern Time on Monday, January 26, 2009.

Docket Numbers: ER09-500-000.

Applicants: PacifiCorp.

Description: PacifiCorp submits a revised tariff sheet designated to cancel PacificCorp's First Revised Rate 258 with Sierra Pacific Power Company.

Filed Date: 01/05/2009.

Accession Number: 20090107-0150.

Comment Date: 5 p.m. Eastern Time on Monday, January 26, 2009.

Docket Numbers: ER09-501-000.

Applicants: PJM Interconnection L.L.C.

Description: PJM Interconnection submits an executed interconnection service agreement entered into among PJM, WM Renewable Energy, L.L.C. and Virginia Electric and Power Company.

Filed Date: 01/05/2009.

Accession Number: 20090107-0148.

Comment Date: 5 p.m. Eastern Time on Monday, January 26, 2009.

Docket Numbers: ER09-506-000.

Applicants: Midwest Independent Transmission System Operator, Inc.

Description: Midwest Independent Transmission System Operator, Inc. submits proposed revisions to its Open Access Transmission, Energy and Operating Reserve Markets Tariff to incorporate etc.

Filed Date: 01/06/2009.

Accession Number: 20090108-0106.

Comment Date: 5 p.m. Eastern Time on Tuesday, January 27, 2009.

Docket Numbers: ER09-507-000.

Applicants: PSEG Power Connecticut L.L.C..

Description: PSEG Power Connecticut submits for filing Revised Reliability Must Run Agreements to Include Carbon Dioxide Emissions Allowance Costs.

Filed Date: 01/06/2009.

Accession Number: 20090107-0320.

Comment Date: 5 p.m. Eastern Time on Tuesday, January 27, 2009.

Docket Numbers: ER09-508-000.

Applicants: PacifiCorp.

Description: PacifiCorp submits Service Agreement 539 for Network Integration Transmission Service with Bonneville Power Administration etc.

Filed Date: 01/06/2009.

Accession Number: 20090107-0318.

Comment Date: 5 p.m. Eastern Time on Tuesday, January 27, 2009.

Docket Numbers: ER09-509-000.

Applicants: Entergy Services, Inc.

Description: Entergy Mississippi, Inc. submits an executed Affected System Study Funding Agreement with Tennessee Valley Authority pursuant to Order 614.

Filed Date: 01/06/2009.

Accession Number: 20090107-0321.

Comment Date: 5 p.m. Eastern Time on Tuesday, January 27, 2009.

Docket Numbers: ER09-510-000.

Applicants: Central Hudson Gas & Electric Corp.

Description: Central Hudson Gas & Electric Corporation submits Eighth Revised Sheet 9 et al. to Rate Schedule FERC No 202.

Filed Date: 01/05/2009.

Accession Number: 20090107-0322.

Comment Date: 5 p.m. Eastern Time on Monday, January 26, 2009.

Docket Numbers: ER09-511-000.

Applicants: PacifiCorp.

Description: PacifiCorp submits Service Agreement No 537 under its Seventh Revised Volume No 11 Open Access Transmission Tariff.

Filed Date: 01/06/2009.

Accession Number: 20090107-0323.

Comment Date: 5 p.m. Eastern Time on Tuesday, January 27, 2009.

Docket Numbers: ER09-512-000.

Applicants: Midwest Independent Transmission System Operator, Inc.

Description: Midwest Independent Transmission System Operator, Inc. submits an Amended and Restated Interconnection and Operating Agreement among the Midwest ISO, Rainy River Energy Corporation-Wisconsin, etc.

Filed Date: 01/06/2009.

Accession Number: 20090107-0324.

Comment Date: 5 p.m. Eastern Time on Tuesday, January 27, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. E9-1033 Filed 1-16-09; 8:45 am]

BILLING CODE 6717-01-P